DEPARTMENT OF TRANSPORTATION

Surface Transportation Board

[STB Docket Nos. AB-855 (Sub-No. 1X), and AB-847 (Sub-No. 2X)]

A & R Line, Inc.—Abandonment Exemption—in Cass and Pulaski Counties, IN; Toledo, Peoria & Western Railway Corporation—Discontinuance of Service, Exemption—in Cass and Pulaski Counties, IN

AGENCY: Surface Transportation Board.

ACTION: Notice to the Parties.

SUMMARY: The Surface Transportation Board's Section of Environmental Analysis is correcting the environmental assessment (EA) served on September 29, 2003. The correct length of the line sought to be abandoned and discontinued is 21 miles. All other information in the EA remains unchanged.

FOR FURTHER INFORMATION CONTACT: Kenneth Blodgett, (202) 565-1554. [Assistance for the hearing impaired is available through the Federal Information Relay Service (FIRS) at 1-800-877-8339.]

SUPPLEMENTARY INFORMATION: On September 29, 2003, the section of Environmental Analysis (SEA) served an environmental assessment (EA), which described the length of the line sought to be abandoned and discontinued as 15.9 miles. On December 23, 2003, Counsel for A&R Line, Inc., and the Toledo, Peoria & Western Railway Corporation (carriers) filed a “Motion to Amend the Pleadings and Decisions and Hold Offer of Financial Assistance Process in Abeyance.” ¹ Included in the motion was a request for the Board to amend the pleadings and decisions to reflect the correct length of the line as 21 miles. According to the carriers, the pleadings contained incorrect information pertaining to the total mileage involved in this proceeding, and this misstatement of the mileage occurred because there are currently two milepost designations, Milepost 5.1W and Milepost 0.0, for the same location. Therefore, the EA should have stated that the line runs from Milepost 0.0, near Kenneth, to Milepost 21.0W, near Winamac, for a total distance of 21 miles. SEA considered the impact that the abandonment and discontinuance would have on the area between Kenneth and Winamac, which covered the full 21 miles of the line. Therefore, all other information in the EA remains unchanged.

¹ The Board is currently considering the motion.

Please correct your copies accordingly.

Board decisions and notices are available on our Web site at http://www.stb.dot.gov.

Decided: January 6, 2004.
By the Board, Victoria Rutson, Chief, Section of Environmental Analysis.
Vernon A. Williams,
Secretary.

[FR Doc. 04-548 Filed 1-9-04; 8:45 am]

BILLING CODE 4915-00-P